SECURITIES AND EXCHANGE COMMISSION

Sunshine Act Meetings

Notice is hereby given, pursuant to the provisions of the Government in the Sunshine Act, Public Law 94-409, that the Securities and Exchange Commission will hold Open Meetings on Monday, July 20, 2009 at 2 p.m. and Tuesday, July 21, 2009 at 10 a.m., in the Auditorium, Room L-002.

The subject matter of the July 20, 2009 Open Meeting will be:

The Commission will hear oral argument in an appeal by Joseph John VanCook from the decision of an administrative law judge. The law judge found that VanCook, a registered representative formerly associated with Pritchard Capital Partners, LLC, willfully violated Section 10(b) of the Securities Exchange Act of 1934 and Exchange Act Rule 10b-5 by orchestrating a fraudulent scheme involving material misrepresentations to permit his clients to “late trade” shares of certain registered investment companies. The law judge also found that VanCook aided and abetted and willfully caused Pritchard Capital's clearing broker to violate Rule 22c-1 of the Investment Company Act of 1940. The law judge further found that VanCook aided and abetted and willfully caused Pritchard Capital to violate Exchange Act Section 17(a)(1) and Exchange Act Rule 17a-3(a)(6) for failing to make and keep current certain books and records. For these violations, the law judge barred VanCook from association with any broker or dealer or investment company, imposed a cease-and-desist order against him, ordered disgorgement of $538,565.70, plus prejudgment interest, and assessed a $100,000 third-tier civil money penalty.

Among the issues likely to be argued are whether VanCook's conduct was fraudulent, whether he aided and abetted and/or caused a violation of Rule 22c-1, whether he aided and abetted and/or caused his firm to fail to make and keep accurate books and records, and, if so, whether and to what extent sanctions should be imposed on him.

The subject matter of the July 21, 2009 Open Meeting will be:

The Commission will hear oral argument in an appeal by the Division of Enforcement from the decision of an administrative law judge in a proceeding brought pursuant to Commission Rule of Practice 102(e). The law judge found that the conduct of Kevin Hall, CPA and Rosemary Meyer, CPA, in connection with the fiscal year (“FY”) 1999 audit of the financial statements of U.S. Foodservice, Inc. (“USF”) and the interim review of USF's second quarter FY 2000 financial statements, was not improper under the Rule.

Among the issues likely to be argued are whether Hall and Meyer failed to exercise due professional care in the planning and performance of the audit, failed to obtain sufficient competent evidential matter to afford a reasonable basis for an opinion regarding the financial statements under audit, and failed to act in accordance with professional standards in connection with the interim review. The parties may also address whether and to what extent Hall and Meyer should be sanctioned if they are found to have engaged in improper professional conduct.

The Commission also will hear oral argument in an appeal by Gregory O. Trautman from the decision of an administrative law judge. The law judge found that Trautman, co-founder, president, and chief executive officer of Trautman Wasserman & Company, willfully violated Section 17(a) of the Securities Act of 1933, Section 10(b) of the Securities Exchange Act of 1934 and Exchange Act Rule 10b-5 by engaging in a scheme to defraud mutual funds and their shareholders through late trading and deceptive market timing. The law judge also found that Trautman willfully aided and abetted, and was a cause of, Trautman Wasserman & Company's violations of Exchange Act Section 15(c) and Exchange Act Rule 10b-3, and willfully aided and abetted, and was a cause of, Trautman Wasserman & Company's clearing firm's violations of Rule 22c-1 of the Investment Company Act of 1940. For these violations, the law judge barred Trautman from association with any broker or dealer, prohibited him from serving or acting in various capacities with respect to a registered investment company, imposed a cease-and-desist order, ordered disgorgement of $1,373,799.75, plus prejudgment interest, and assessed a $500,000 third-tier civil money penalty.

Among the issues likely to be argued are whether Trautman's conduct was fraudulent, whether he aided and abetted and/or caused a violation of Investment Company Act Rule 22c-1, whether he aided and abetted and/or caused his firm's violations, and, if so, whether and to what extent sanctions should be imposed on him.

At times, changes in Commission priorities require alterations in the scheduling of meeting items.

For further information and to ascertain what, if any, matters have been added, deleted or postponed, please contact:

The Office of the Secretary at (202) 551-5400.

Dated: July 13, 2009.
Elizabeth M. Murphy,
Secretary.

[FR Doc. E9-17000 Filed 7-15-09; 8:45 am]

BILLING CODE 8010-01-P